ENVIRONMENTAL PROTECTION AGENCY

40 CFR Part 52

[EPA-R05-OAR-2010-0394; FRL-9483-5]

Approval and Promulgation of Implementation Plans; Illinois; Consumer Products and AIM Rules

AGENCY: Environmental Protection Agency (EPA).

ACTION: Proposed rule.

SUMMARY: EPA is proposing to approve Illinois' volatile organic compound (VOC) emission limits for consumer products and architectural and industrial maintenance (AIM) coatings and incorporate this new rule into the State Implementation Plan (SIP) for the State of Illinois. However, there are four specific paragraphs in this rule with deficiencies that EPA is proposing to conditionally approve, based on a State commitment to address the deficiencies no later than one year from the date of EPA's conditional approval.

DATES: Comments must be received on or before November 28, 2011.

ADDRESSES: Submit comments, identified by Docket ID No. EPA-R05-OAR-2010-0394, by one of the following methods:

1. http://www.regulations.gov: Follow the on-line instructions for submitting comments.

2. E-mail: blakley.pamela@epa.gov.

3. Fax: (312) 886-4447.

4. Mail: Pamela Blakley, Chief, Control Strategies Section, (AR-18J), U.S. Environmental Protection Agency, 77 West Jackson Boulevard, Chicago, Illinois 60604.

5. Hand Delivery: Pamela Blakley, Chief, Control Strategies Section, (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2010-0394. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Anthony Maietta at (312) 353-8777 before visiting the Region 5 office.

FOR FURTHER INFORMATION CONTACT: Anthony Maietta, Environmental Protection Specialist, Control Strategies Section, Air Programs Branch (AR-18J), U.S. Environmental Protection Agency, Region 5, 77 West Jackson Boulevard, Chicago, Illinois 60604, (312) 353-8777, or maietta.anthony@epa.gov.

SUPPLEMENTARY INFORMATION: Throughout this document whenever “we,” “us,” or “our” is used, we mean EPA. This SUPPLEMENTARY INFORMATION section is arranged as follows:

I. What should I consider as I prepare my comments for EPA?

II. Background

III. Conditions for Approval

IV. What sources are affected by this proposed action?

V. What is EPA's proposed action?

VI. Statutory and Executive Order Reviews

I. What should I consider as I prepare my comments for EPA?

When submitting comments, remember to:

1. Identify the rulemaking by docket number and other identifying information (subject heading, Federal Register date, and page number).

2. Follow directions—EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. Background

Consumer products are a wide array of sprays, gels, cleaners, adhesives, and other chemically formulated products that are purchased for personal or institutional use and that emit VOC through their use, consumption, storage, disposal, destruction, or decomposition. AIM coatings are paints, varnishes, and other similar coatings that are meant for use on external surfaces of buildings or other outside structures and that emit VOC through similar means to consumer products.

On April 7, 2010, the Illinois Environmental Protection Agency (Illinois EPA) submitted to EPA a request to approve into the Illinois SIP Part 223, “Standards and Limitations for Organic material Emissions for Area Sources” of Title 35 of the IAC (35 IAC 223). The purpose of the rule is to limit VOC emissions by requiring reductions in the VOC content of consumer products and AIM coatings. 35 IAC 223 consists of 34 new chapters, and is divided into three subparts (a subpart for general provisions and one subpart each for consumer products and AIM coatings rules). Part 223 includes the following components for control of VOC from consumer products and AIM coatings:

(1) VOC emissions limits, reporting requirements, and labeling requirements for consumer products and AIM coatings sold, supplied, offered for sale, or manufactured in Illinois.

(2) Specific limitations for the sale, supply, offered for sale, use, or manufacture for sale of aerosol adhesives, floor wax strippers, products containing ozone-depleting compounds, and charcoal lighter material.

(3) Test methods for determining compliance with these rules and for determining specific aspects of affected products or coatings.

(4) Alternative compliance plans for any manufacturer of consumer products that has been granted an alternative compliance plan agreement by the California Air Resources Board (CARB).

(5) A special analysis method for Methacrylate Traffic Marking Coatings.

(6) Special recordkeeping requirements for consumer products that contain perchloroethylene or methylene chloride.

(7) Additional labeling requirements for aerosol adhesives, adhesive removers, electronic cleaners, electrical cleaners, energized electrical cleaners, and contact adhesives.

(8) Exemptions for consumer products produced for sale outside of Illinois, consumer products whose VOC emission limits are governed by other rules, and innovative consumer products as defined by CARB.

(9) Incorporation by reference: The State is incorporating by reference a number of materials. These incorporations by reference include test methods from the American Society for Testing and Materials, EPA, CARB, the Bay Area Air Quality Management District, and the South Coast Air Quality Management District to determine VOC content in a number of the product categories subject to limits in Illinois' new rule. Also incorporated by reference are EPA and the California Code of Regulations (CCR) VOC standards for consumer products. Illinois also incorporated by reference the CCR innovative products exemption and the alternate control plan. These incorporations by reference help persons or companies subject to Illinois' new 35 IAC Part 223 to comply with the VOC limits contained therein.

The rules that Illinois adopted and submitted to EPA for approval are based on existing CARB regulations and model rules developed by the Ozone Transport Commission (OTC) for consumer products and AIM coatings. The OTC has developed model rules for several consumer products and AIM coatings VOC source categories which OTC member states (Illinois is not an OTC member state) have signed a memorandum of understanding to adopt. For consumer products, the CARB regulations and OTC model rule that Illinois based their rule on are at least as stringent, and in some cases more stringent than, EPA's national consumer products rule, “National Volatile Organic Compound Emission Standards for Consumer Products,” 40 CFR Part 59, Subpart C. For AIM coatings, the OTC model rule that Illinois' rule is based upon is also at least as stringent, and in some cases more stringent than, EPA's AIM coatings rule, “National Volatile Organic Compound Emission Standards for Architectural Coatings,” at 40 CFR Part 59 Subpart D.

III. Conditions for Approval

A rule-by-rule review of Illinois' submittal showed that four paragraphs contained errors. Paragraph (6)(A) of 35 IAC 223.205 erroneously provides two high-volatility organic material limits for aerosol-based antiperspirants when there should be both a high- and medium-volatility limit for this category based on the OTC model rule. Paragraph (6)(B) of 35 IAC 223.205 erroneously provides two medium-volatility organic material limits for non aerosol-based antiperspirants when there should be both a high- and medium-volatility limit for this category based on the OTC model rule.

Paragraph (17)(A) of 35 IAC 223.205 erroneously provides two high-volatility organic material limits for aerosol-based deodorants when there should be both a high- and medium-volatility limit for this category based on the OTC model rule. Paragraph (17)(B) of 35 IAC 223.205 erroneously provides two medium-volatility organic material limits for non aerosol-based deodorants when there should be both a high- and medium-volatility limit for this category based on the OTC model rule.

On September 2, 2011, Illinois sent EPA a letter committing to amend these paragraphs to display the correct limits and limit categories and submit revised rules to EPA within one year of our final rulemaking. Under section 110(k)(4) of the CAA, EPA may conditionally approve a portion of a SIP revision based on a commitment from a state to adopt specific enforceable measures by a date certain that is no more than one year from the date of conditional approval. In this action, we are proposing to approve a portion of the SIP revision that Illinois has submitted on the condition that the specified deficiencies in the SIP revision are corrected as discussed in Illinois' September 2, 2011, letter. If this condition is not fulfilled within one year of the effective date of final rulemaking, the conditional approval will automatically revert to disapproval, as of the deadline for meeting the conditions, without further action from EPA. EPA would subsequently publish a notice in the Federal Register informing the public of a disapproval. If Illinois submits final and effective rule revisions correcting the deficiencies, as discussed above, within one year from this conditional approval becoming final and effective, EPA will publish a subsequent notice in the Federal Register to acknowledge conversion of the conditional approval to a full approval.

IV. What sources are affected by this proposed action?

Anyone who sells, supplies, offers for sale, or manufactures consumer products and AIM coatings in Illinois is affected by this proposed action. Because of the wide adoption of OTC model rules for consumer products and AIM coatings by California, OTC states, and other Midwestern states, Illinois expects that some of the reductions from adoption of these rules have already been realized. This is because of existing nationwide compliance with the OTC model rules by many of the largest manufacturers of these products. However, because so many states have adopted these rules, and many major manufacturers already comply with these rules, the burden on affected sources will be minor. EPA agrees with Illinois' view.

Illinois held two public hearings on its proposed rule, took public comment on the proposed rule and also contacted approximately 600 entities listed as potentially affected by the rules to provide these sources an opportunity for comment on the proposed rule. While very few of the potentially affected entities responded, it is clear that Illinois made an effort to inform them of the proposed rules.

IV. What is EPA's proposed action?

We propose to conditionally approve paragraphs (6)(A), (6)(B), (17)(A), and (17)(B) of 35 IAC 223.205, based on a commitment from the State sent on September 2, 2011 to correct this rule within one year of our final rulemaking. If the State fails to make this correction within the allowed one year period as discussed above, this conditional approval will revert to disapproval.

We propose to approve and incorporate in to the Illinois SIP the rest of the State's April 7, 2010, submittal, that is, the remainder of 35 IAC Part 223, because VOC limits in these rules are at least as stringent as, and in many cases are more stringent than, EPA's existing limits for these sources. Therefore, approval of these rules will strengthen the Illinois SIP.

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L.104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Volatile organic compounds.

Dated: October 18, 2011.
Susan Hedman,
Regional Administrator, Region 5.

[FR Doc. 2011-27810 Filed 10-26-11; 8:45 am]

BILLING CODE 6560-50-P